DEPARTMENT OF COMMERCE

International Trade Administration

[A-570-086; A-549-839]

Steel Propane Cylinders From the People's Republic of China and Thailand: Amended Final Determination of Sales at Less Than Fair Value and Antidumping Duty Orders

AGENCY: Enforcement and Compliance, International Trade Administration, Department of Commerce.

SUMMARY: Based on affirmative final determinations by the Department of Commerce (Commerce) and the International Trade Commission (ITC), we are issuing antidumping duty orders on steel propane cylinders from the People's Republic of China (China) and Thailand. Additionally, we are amending our final affirmative determination of sales at less than fair value (LTFV) for steel propane cylinders from China as a result of ministerial errors.

DATES: Applicable August 15, 2019.

FOR FURTHER INFORMATION CONTACT: Laura Griffith or Cindy Robinson, AD/CVD Operations, Office III, Enforcement and Compliance, International Trade Administration, U.S. Department of Commerce, 1401 Constitution Avenue NW, Washington, DC 20230; telephone: (202) 482-6430 or (202) 482-3797, respectively.

SUPPLEMENTARY INFORMATION:

Background

In accordance with sections 735(a), 735(d), and 777(i)(1) of the Tariff Act of 1930, as amended (the Act), and 19 CFR 351.210(c), Commerce published its affirmative final determinations in the LTFV investigations of steel propane cylinders from China and Thailand on June 21, 2019.¹ On August 5, 2019, the ITC notified Commerce of its final affirmative determinations that an industry in the United States is materially injured within the meaning of section 735(b)(1)(A)(i) of the Act by reason of the LTFV imports of steel propane cylinders from China and Thailand.²

¹ See Steel Propane Cylinders from the People's Republic of China: Final Determination of Sales at Less Than Fair Value, 84 FR 29161 (June 21, 2019) (China Final Determination); see also Steel Propane Cylinders from Thailand: Final Determination of Sales at Less Than Fair Value, 84 FR 29168 (June 21, 2019).

² See ITC Letter, dated August 5, 2019 (ITC Letter).

Scope of the Orders

The merchandise covered by these orders is steel propane cylinders from China and Thailand. For a complete discussion of the scope of these orders, see the appendix to this notice.

Amendment to the China Final Determination

A ministerial error is defined as an error in addition, subtraction, or other arithmetic function, clerical error resulting from inaccurate copying, duplication, or the like, and any other similar type of unintentional error which the Secretary considers ministerial.³

³ See section 735(e) of the Act; and 19 CFR 351.224(f).

Pursuant to sections 735(e) of the Act and 19 CFR 351.224(e) and (f), Commerce is amending the China Final Determination to reflect the correction of one ministerial error in the final estimated weighted-average dumping margin calculated for Hong Kong GSBF Company Limited (GSBF). In addition, because GSBF's estimated weighted-average dumping margin contributes to the basis for the estimated weighted-average dumping margin determined for the non-examined separate-rate respondent, Jiaxing Pressure Vessel Factory (Jiaxing Pressure Vessel), we also are revising the weighted-average dumping margin for Jiaxing Pressure Vessel.⁴ The amended estimated weighted-average dumping margins are listed in the Suspension of Liquidation section below.

⁴ See Memorandum, “Less-Than-Fair-Value Investigation of Steel Propane Cylinders from The People's Republic of China: Allegation of Ministerial Errors in the Final Determination,” dated July 22, 2019 (Final Ministerial Error Memorandum) at 4.

Additionally, for the China Final Determination, we incorrectly made an offset, pursuant to section 777A(f) of the Act, to the respondents' cash deposit rates for policy loans to the steel propane cylinders industry found to be countervailable in the companion countervailing duty investigation. Therefore, Commerce is amending the China Final Determination to exclude policy loans from the determination of the double remedy offset in the calculation of cash deposit rates.⁵ Because GSBF's and Jiaxing Pressure Vessel's margins have changed, and because we have revised the double remedy offset, the cash deposit rates for all companies have changed.⁶

⁵ See Final Ministerial Error Memorandum at 4.

⁶ Id.

Antidumping Duty Orders

On August 5, 2019, in accordance with sections 735(b)(1)(A)(i) and 735(d) of the Act, the ITC notified Commerce of its final determinations that an industry in the United States is materially injured by reason of imports of steel propane cylinders from China and Thailand.⁷ Therefore, in accordance with sections 735(c)(2) and 736 of the Act, we are issuing these antidumping duty orders. Because the ITC determined that imports of steel propane cylinders from China and Thailand are materially injuring a U.S. industry, unliquidated entries of such merchandise from China or Thailand, entered or withdrawn from warehouse for consumption, are subject to the assessment of antidumping duties.

⁷ See ITC Letter.

As a result of the ITC's final affirmative determinations, in accordance with section 736(a)(1) of the Act, Commerce will direct U.S. Customs and Border Protection (CBP) to assess, upon further instruction by Commerce, antidumping duties equal to the amount by which the normal value of the merchandise exceeds the export price or constructed export price of the merchandise, for all relevant entries of steel propane cylinders from China and Thailand. In the case of entries from China, the antidumping duties will be adjusted for export subsidies found in the final determination of the companion countervailing duty investigation. Antidumping duties will be assessed on unliquidated entries of steel propane cylinders from China and Thailand entered, or withdrawn from warehouse, for consumption on or after December 27, 2018, the date of publication of the Preliminary Determinations,⁸ but will not include entries occurring after the expiration of the provisional measures period and before publication in the Federal Register of the ITC's injury determination, as further described below.

⁸ See Steel Propane Cylinders from the People's Republic of China: Preliminary Affirmative Determination of Sales at Less Than Fair Value and Postponement of Final Determination Measures, 83 FR 66675 (December 27, 2018); see also Steel Propane Cylinders from Thailand: Preliminary Affirmative Determination of Sales at Less Than Fair Value and Postponement of Final Determination, 84 FR 66678 (December 27, 2018) (collectively, Preliminary Determinations).

Suspension of Liquidation

In accordance with section 736 of the Act, Commerce will instruct CBP to reinstitute the suspension of liquidation of subject merchandise (i.e., steel propane cylinders from China and Thailand) effective on the date of publication of the ITC final determination in the Federal Register. Commerce will also instruct CBP to assess, upon further instruction by Commerce pursuant to section 736(a)(1) of the Act, antidumping duties for each entry of the subject merchandise equal to the amount by which the normal value of the merchandise exceeds the export price or constructed export price of the merchandise, adjusted by the amount of export subsidies, where appropriate. We intend to instruct CBP to require, at the same time as importers would normally deposit estimated import duties on this merchandise, cash deposits for each entry of subject merchandise equal to the rates noted below. These instructions suspending liquidation will remain in effect until further notice. The China-wide and all-others rates apply to all other producers or exporters not specifically listed.

Estimated Weighted-Average Dumping Margins

The estimated weighted-average dumping margins are as follows:

China
Producer | Exporter | Weighted- average margin (percent) | Cash deposit adjusted for subsidy offset (percent)
GSBF Tank Inc | Hong Kong GSBF Company Limited | 43.65 | 11.88
Shandong Huanri Group Co. Ltd | Shandong Huanri Group Co. Ltd | 25.52 | 0.00
Jiaxing Pressure Vessel Factory | Jiaxing Pressure Vessel Factory | 26.68 | 0.00
China-Wide Entity |  | 108.60 | 76.83

Thailand
Producer/exporter | Weighted- average margin (percent)
Sahamitr Pressure Container Public Company Limited | 10.77
All Others | 10.77

Provisional Measures

Section 733(d) of the Act states that instructions issued pursuant to an affirmative preliminary determination may not remain in effect for more than six months. Commerce published its affirmative Preliminary Determinations on December 27, 2018. Therefore, the six-month period beginning on the date of publication of the Preliminary Determinations ended on June 25, 2019. Accordingly, pursuant to section 733(d) of the Act, Commerce instructed CBP to terminate the suspension of liquidation and to liquidate, without regard to antidumping duties, unliquidated entries of steel propane cylinders from China and Thailand entered, or withdrawn from warehouse, for consumption after June 25, 2019, the date on which the provisional measures expired, through the day preceding the date of publication of the ITC's final affirmative injury determinations in the Federal Register. Suspension of liquidation will resume on the date of publication of the ITC's final affirmative injury determinations in the Federal Register.

Notification to Interested Parties

This notice constitutes the antidumping duty orders with respect to steel propane cylinders from China and Thailand pursuant to section 736(a) of the Act. Interested parties can find a list of antidumping duty orders currently in effect at http://enforcement.trade.gov/stats/iastats1.html.

These orders are published in accordance with section 736(a) of the Act and 19 CFR 351.211(b).

Dated: August 7, 2019.
Jeffrey I. Kessler,
Assistant Secretary for Enforcement and Compliance.

Appendix I

Scope of the Orders

The merchandise covered by these orders is steel cylinders for compressed or liquefied propane or other gases (steel propane cylinders) meeting the requirements of, or produced to meet the requirements of, U.S. Department of Transportation (USDOT) Specifications 4B, 4BA, or 4BW, or Transport Canada Specification 4BM, 4BAM, or 4BWM, or United Nations pressure receptacle standard ISO 4706 and otherwise meeting the description provided below. The scope includes steel propane cylinders regardless of whether they have been certified to these specifications before importation. Steel propane cylinders range from 2.5 pound nominal gas capacity (approximate 6 pound water capacity and approximate 4-6 pound tare weight) to 42 pound nominal gas capacity (approximate 100 pound water capacity and approximate 28-32 pound tare weight). Steel propane cylinders have two or fewer ports and may be imported assembled or unassembled (i.e., welded or brazed before or after importation), with or without all components (including collars, valves, gauges, tanks, foot rings, and overfill prevention devices), and coated or uncoated. Also included within the scope are drawn cylinder halves, unfinished propane cylinders, collars, and foot rings for steel propane cylinders.

An “unfinished” or “unassembled” propane cylinder includes drawn cylinder halves that have not been welded into a cylinder, cylinders that have not had flanges welded into the port hole(s), cylinders that are otherwise complete but have not had collars or foot rings welded to them, otherwise complete cylinders without a valve assembly attached, and cylinders that are otherwise complete except for testing, certification, and/or marking.

These orders also cover steel propane cylinders that meet, are produced to meet, or are certified as meeting, other U.S. or Canadian government, international, or industry standards (including, for example, American Society of Mechanical Engineers (ASME), or American National Standard Institute (ANSI)), if they also meet, are produced to meet, or are certified as meeting USDOT Specification 4B, 4BA, or 4BW, or Transport Canada Specification 4BM, 4BAM, or 4BWM, or a United Nations pressure receptacle standard ISO 4706.

Subject merchandise also includes steel propane cylinders that have been further processed in a third country, including but not limited to, attachment of collars, foot rings, or handles by welding or brazing, heat treatment, painting, testing, certification, or any other processing that would not otherwise remove the merchandise from the scope of these orders if performed in the country of manufacture of the in-scope steel propane cylinders.

Specifically excluded are seamless steel propane cylinders and propane cylinders made from stainless steel (i.e., steel containing at least 10.5 percent chromium by weight and less than 1.2 percent carbon by weight), aluminum, or composite fiber material. Composite fiber material is material consisting of the mechanical combination of two components: Fiber (typically glass, carbon, or aramid (synthetic polymer)) and a matrix material (typically polymer resin, ceramic, or metallic).

The merchandise subject to these orders is properly classified under statistical reporting numbers 7311.00.0060 and 7311.00.0090 of the Harmonized Tariff Schedule of the United States (HTSUS). Although the HTSUS statistical reporting numbers are provided for convenience and customs purposes, the written description of the merchandise is dispositive.

[FR Doc. 2019-17312 Filed 8-14-19; 8:45 am]

BILLING CODE 3510-DS-P